DEPARTMENT OF TRANSPORTATION

Federal Aviation Administration

Public Notice for a Change in Use of Aeronautical Property at Sanford Regional Airport, Sanford, ME

AGENCY: Federal Aviation Administration (FAA), DOT.

ACTION: Request for public comments.

SUMMARY: The FAA is requesting public comment on the Town of Sanford, Maine's, request to convey approx. 2.58 acres of Airport property from aeronautical use of non-aeronautical use. The property is located on Gatehouse Road, Sanford, Maine. York County Registry of Deeds, book/page/date 1113/303 12/30/47 & 1116/1 7/15/48. The property was acquired under AIP Project No. 3-23-0044-20. In exchange the airport will receive 2.9 acres of land for aeronautical purposes.

The disposition of proceeds from the disposal of airport property will be in accordance with FAA's Policy and Procedures Concerning the Use of Airport Revenue, published in the Federal Register on February 16, 1999.

DATES: Comments must be received on or before September 24, 2007.

ADDRESSES: Documents are available for review by appointment by contacting Evan McDougal, Airport Manager at Sanford Regional Airport, Telephone 207-432-0596 or by contacting Tracey McInnis, Federal Aviation Administration, 16 New England Executive Park, Burlington, Massachusetts, Telephone 781-238-7621.

FOR FURTHER INFORMATION CONTACT: Tracey McInnis at the Federal Aviation Administration, 12 New England Executive Park, Burlington, Massachusetts 01803, Telephone 781-238-7621.

SUPPLEMENTARY INFORMATION: Section 125 of The Wendell H. Ford Aviation Investment and Reform Act for the 21st Century (AIR 21) requires the FAA to provide an opportunity for public notice and comment to the “waiver” or “modification” of a sponsor's Federal obligation to use certain airport property for aeronautical purposes.

Issued in Burlington, Massachusetts, on August 9, 2007.
LaVerne F. Reid,
Manager, Airports Division, New England Region.

[FR Doc. 07-4124 Filed 8-22-07; 8:45 am]

BILLING CODE 4910-13-M